DEPARTMENT OF JUSTICE

Drug Enforcement Administration

[Docket No. DEA-1512]

Bulk Manufacturer of Controlled Substances Application: Pharmaron Manufacturing Services (US), LLC; Correction

AGENCY: Drug Enforcement Administration, Justice.

ACTION: Notice; correction.

SUMMARY: The Drug Enforcement Administration (DEA) published a document in the Federal Register on March 26, 2025, concerning a notice of application for bulk manufacturer of Controlled Substances. As that document indicated the registrant's incorrect plans for the listed controlled substances.

SUPPLEMENTARY INFORMATION:

Correction

In the Federal Register (FR) of March 26, 2025, in FR Doc. 2025-05055 (90 FR 13782), on page 13782, Column 3, under Supplementary Information correction to the paragraph underneath controlled substance table should read as follows: The company plans to bulk manufacture Noroxymorphone (9668) as an intermediate product to be sold to its customers under the Contract Manufacture Organization (CMO) which the material will be shipped to, and converted to a non-controlled substance. Oxymorphone (9652) will be used as a starting material to be converted to Noroxymorphone. No other activities for these drug codes are authorized for this registration.

Matthew Strait,
Deputy Assistant Administrator.

[FR Doc. 2025-07281 Filed 4-25-25; 8:45 am]

BILLING CODE 4410-09-P